DEPARTMENT OF HOMELAND SECURITY

Coast Guard

33 CFR Part 100

[Docket No. USCG-2018-0539]

Special Local Regulation: Fort Lauderdale Grand Prix of the Seas, Fort Lauderdale, FL

AGENCY: Coast Guard, DHS.

ACTION: Notice of enforcement of regulation.

SUMMARY: The Coast Guard will enforce a special local regulation daily from 8:30 a.m. to 4:00 p.m. November 17 through November 18, 2018 to provide for the safety and security of navigable waterways during the Fort Lauderdale Grand Prix of the Seas. During the enforcement periods, all non-participant persons and vessels are prohibited from entering, transiting, anchoring in, or remaining within the regulated area unless authorized by the Captain of the Port Miami or a designated representative. The operator of any vessel in the regulated area must comply with instructions from the Coast Guard or designated representative.

DATES: The regulation in 33 CFR 100.723 will be enforced daily from 8:30 a.m. until 4:00 p.m. November 17 through November 18, 2018.

FOR FURTHER INFORMATION CONTACT: If you have questions about this notice of enforcement, call or email Petty Officer Mara J. Brown, Sector Miami Waterways Management Division, U.S. Coast Guard: Telephone: 305-535-4317, Email: Mara.J.Brown@uscg.mil.

SUPPLEMENTARY INFORMATION: The Coast Guard will enforce a special local regulation for the Fort Lauderdale Grand Prix of the Seas in 33 CFR 100.723 daily from 8:30 a.m. to 4:00 p.m. November 17 through November 18, 2018. This action is being taken to provide for the safety and security of navigable waterways during this two-day event. Our regulation for marine events within the Seventh Coast Guard District, § 100.723, specifies the location of the special local regulation for the Fort Lauderdale Grand Prix of the Seas, which encompasses certain navigable waters of the Atlantic Ocean off South Beach Park in Fort Lauderdale. Only event sponsor designated participants and official patrol vessels are allowed to enter the regulated area. Spectators may contact the Coast Guard Patrol Commander or designated representative to request permission to pass through the regulated area. If permission is granted, spectators must pass directly through the regulated area at safe speed and without loitering.

In addition to this notice of enforcement in the Federal Register, the Coast Guard will inform the public through Local Notice to Mariners and marine information broadcasts at least 24 hours in advance of the enforcement of the special local regulation.

Dated: October 30, 2018.
M.M. Dean,
Captain, U.S. Coast Guard, Captain of the Port Miami.

[FR Doc. 2018-24055 Filed 11-2-18; 8:45 am]

BILLING CODE 9110-04-P